NUCLEAR REGULATORY COMMISSION

Advisory Committee On Reactor Safeguards (ACRS) Subcommittee Meeting On Power Uprates; Revised

A portion of the ACRS Subcommittee meeting on Power Uprates (Browns Ferry Unit 1) scheduled to be held on Tuesday and Wednesday, January 16-17, 2007 at 11545 Rockville Pike, Room T-2B3, Rockville, Maryland will be closed to discuss information that is proprietary to General Electric, the Tennessee Valley Authority, and their contractors pursuant to 5 U.S.C. 552b (c)(4). All other items pertaining to the meeting remain the same as published previously in the Federal Register on Thursday, December 21, 2006, 71 FR 76707.

Further information regarding this meeting can be obtained by contacting the Designated Federal Official, Mr. Ralph Caruso (Telephone: 301-415-8065) between 7:15 a.m. and 5 p.m. (ET).

Dated: December 21, 2006.
Michael R. Snodderly,
Branch Chief, ACRS/ACNW.

[FR Doc. E6-22244 Filed 12-27-06; 8:45 am]

BILLING CODE 7590-01-P